DEPARTMENT OF LABOR

Employment and Training Administration

[TA-W-60,136]

Owens-Brockway, Inc., Global Glass Technologies Division, a Division of Owens-Illinois, Inc., Including On-Site Leased Workers of Manpower, Inc. and Availability, Godfrey, IL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 3, 2006, applicable to workers of Owens-Brockway, Inc., Global Glass Technologies Division, a division of Owens-Illinois, Inc., including on-site leased workers of Manpower, Inc., Godfrey, Illinois. The notice was published in the Federal Register on October 31, 2006 (71 FR 63800).

At the request of the State agency, the Department reviewed the certification for workers of the subject firm. The workers were engaged in the production of machined parts for glass forming machines.

New information shows that leased workers of Availability were employed on-site at the Godfrey, Illinois location of Owens-Brockway, Inc., Global Glass Technologies Div., a division of Owens-Illinois, Inc.

Based on these findings, the Department is amending this certification to include leased workers of Availability working on-site at Owens-Brockway, Inc., Global Glass Technologies Division, a division of Owens-Illinois, Inc., Godfrey, Illinois.

The intent of the Department's certification is to include all workers employed at Owens-Brockway, Inc., Global Glass Technologies Division, a division of Owens-Illinois, Inc. who were adversely affected by a shift in production to the United Kingdom, Colombia, South America, Mexico and China.

The amended notice applicable to TA-W-60,136 is hereby issued as follows:

All workers of Owens-Brockway, Inc., Global Glass Technologies Division, a division of Owens-Illinois, Inc., including on-site leased workers of Manpower, Inc. and Availability, Godfrey, Illinois, who became totally or partially separated from employment on or after September 25, 2005, through October 3, 2008, are eligible to apply for adjustment assistance under Section 223 of the Trade Act of 1974, and are also eligible to apply for alternative trade adjustment assistance under Section 246 of the Trade Act of 1974.

Signed at Washington, DC this 16th day of January, 2007.
Richard Church,
Certifying Officer, Division of Trade Adjustment Assistance.

[FR Doc. E7-1069 Filed 1-24-07; 8:45 am]

BILLING CODE 4510-30-P